NATIONAL AERONAUTICS AND SPACE ADMINISTRATION

Procurement Policies, Practices, and Initiatives; Notice of Meeting

SUMMARY: NASA will conduct an open forum meeting to solicit questions, views and opinions of interested persons or firms concerning NASA's procurement policies, practices, and initiatives. The purpose of the meeting is to have an open discussion between NASA's Associate Administrator for Procurement, industry, and the public.

Note: This is not a meeting about doing business with NASA for new firms, nor does it focus particularly on small businesses or specific contracting opportunities.

DATES: Thursday, May 3, 2001, from 9 a.m. to 11 a.m.

ADDRESSES: The meeting will be held at the NASA George C. Marshall Space Flight Center Morris Auditorium, Bldg. 4200, Huntsville, AL 35812.

FOR FURTHER INFORMATION CONTACT: Joseph Derell Hobson, NASA Marshall Space Flight Center, Mail Code PS01, Huntsville, AL 35812, (256) 544-0375. Auditorium capacity is limited to approximately 90 persons; therefore, a maximum of two representatives per firm is requested. No reservations will be accepted. Questions for the open forum should be presented at the meeting and should not be submitted in advance. Position papers are not being solicited.

SUPPLEMENTARY INFORMATION:

Admittance

Admittance will be on a first-come, first-served basis. Attendees must be a U.S. Citizen or have a valid green card in their possession. Doors will open at a half-hour prior to the presentation.

Format

There will be a presentation by the Associate Administrator for Procurement, followed by a question and answer period. Procurement issues will be discussed, including NASA newest initiatives used in the award and administration of contracts.

Initiatives

In addition to the general discussion mentioned above, NASA invites comments or questions relative to its ongoing Procurement Innovations, some of which include, but are not limited to, the following:

Focus on Safety & Health: This ensures that contractors take all reasonable safety and occupational health measures in performing NASA contracts.

Risk-Based Acquisition Management: This initiative seeks to integrate the principles of risk management throughout the acquisition process by purposefully considering the various aspects of risk when developing the acquisition strategy, selecting sources, choosing contract type, structuring fee incentives, and conducting contractor surveillance.

Consolidated Contracting Initiative: The CCI initiative emphasizes developing, using, and sharing contracts to meet Agency objectives.

Performance Based Contracting: This initiative is focused on structuring an acquisition around the purpose of the work to be performed rather than using broad, imprecise statements or prescribing how the work is to be performed.

Award Term Initiative: This initiative will test a non-traditional method of motivating and rewarding contractor performance. Contractors will receive periodic performance evaluations and scores, which can result in an extension of the term of the contract in return for excellent performance.

Tom Luedtke,
Associate Administrator for Procurement.

[FR Doc. 01-10268 Filed 4-24-01; 8:45 am]

BILLING CODE 7510-01-U